DEPARTMENT OF STATE

[Public Notice 3565]

Privacy Act of 1974 as Amended; Removal of a System of Records

Notice is hereby given that the Department of State is removing a system of records, “Privacy Act Requests Records, STATE-40” pursuant to the provisions of the Privacy Act of 1974, as amended (5 U.S.C. 552a(r)), and in accordance with the record-keeping practices and the reorganization of the Bureau of Administration.

As reported in Public Notice 3487 dated November 27, 2000 (65 FR 75761, No. 233, December 4, 2000), the relevant records reflected in STATE-40 are now part of “Information Access Programs Records STATE-35,” and STATE-40 consequently has been removed.

Dated: January 29, 2001.
Patrick F. Kennedy,
Assistant Secretary for the Bureau of Administration, Department of State.

[FR Doc. 01-2879 Filed 2-1-01; 8:45 am]

BILLING CODE 4710-24-U